DEPARTMENT OF THE TREASURY

Submission for OMB Review; Comment Request

September 21, 2011.

The Department of the Treasury will submit the following public information collection requirement to OMB for review and clearance under the Paperwork Reduction Act of 1995, Public Law 104-13 on or after the date of publication of this notice. A copy of the submission may be obtained by contacting the Treasury Departmental Office Clearance Officer listed. Comments regarding this information collection should be addressed to the OMB reviewer listed and to the Treasury PRA Clearance Officer, Department of the Treasury, 1750 Pennsylvania Avenue, NW., Suite 11010, Washington, DC 20220.

DATES: Written comments should be received on or before October 26, 2011 to be assured of consideration.

Executive Office for Asset Forfeiture (EOAF)

OMB Number: 1505-0152.

Type of Review: Revision a currently approved collection.

Title: Request for Transfer of Property Seized/Forfeited by a Treasury Agency.

Form: TD F 92-22.46.

Abstract: Form TD F 92-22.46 is necessary for the application for receipt of seized assets by State and Local Law Enforcement agencies.

Respondents: State, Local, and Tribal Governments.

Estimated Total Annual Burden Hours: 2,500.

Departmental Office Clearance Officer: Jackie Jackson, Department of the Treasury, EOAF, 740 15th Street, NW., Suite 700, Washington, DC; (202) 622-2755.

OMB Reviewer: Shagufta Ahmed, Office of Management and Budget, New Executive Office Building, Room 10235, Washington, DC 20503; (202) 395-7873.

Dawn D. Wolfgang,
Treasury PRA Clearance Officer.

[FR Doc. 2011-24613 Filed 9-23-11; 8:45 am]

BILLING CODE 4810-25-P